DEPARTMENT OF HEALTH AND HUMAN SERVICES

Health Resources and Services Administration

State and Regional Primary Care Associations Cooperative Program

AGENCY: Health Resources and Services Administration, HHS.

ACTION: Notice of Class Deviation from Competition Requirements for the State and Regional Primary Care Associations (PCA) Cooperative Program.

SUMMARY: In accordance with the Grants Policy and Administration Manual (GPAM) Part F: Chapter 2.b.34, the Bureau of Primary Health Care (BPHC) has been granted a class deviation from the requirements for competition contained in the GPAM Part F: Chapter 2.b.4 to award funds to bridge 52 PCAs three months. This extension, from March 31, 2017, to June 30, 2017, will extend the project and budget period end dates for the 52 PCAs which will result in alignment with other BPHC cooperative agreements.

SUPPLEMENTARY INFORMATION: Awardees of record and intended award amounts are:

Organization name | Grant No. | State | Current project period end date | Revised project period end date | FY 2016 authorized funding level | Cost of 3-month extension
APCA, INC dba Alaska Primary Care Association | U58CS06838 | AK | 3/31/2017 | 6/30/2017 | $ 1,398,544 | $349,636
Alabama Primary Health Care Association, Inc. | U58CS06865 | AL | 3/31/2017 | 6/30/2017 | 573,058 | 143,265
Community Health Centers of Arkansas | U58CS06851 | AR | 3/31/2017 | 6/30/2017 | 823,532 | 205,883
Arizona Association of Community Health Centers, Inc. | U58CS06829 | AZ | 3/31/2017 | 6/30/2017 | 1,400,981 | 350,245
California Primary Care Association | U58CS06830 | CA | 3/31/2017 | 6/30/2017 | 2,889,496 | 722,374
Community Health Association of Mountain/Plains States | U58CS06861 | CO | 3/31/2017 | 6/30/2017 | 519,941 | 129,985
Colorado Community Health Network | U58CS06862 | CO | 3/31/2017 | 6/30/2017 | 1,189,418 | 297,355
Community Health Center Association of Connecticut, Inc. | U58CS06842 | CT | 3/31/2017 | 6/30/2017 | 845,308 | 211,327
District of Columbia Primary Care Association | U58CS06832 | DC | 3/31/2017 | 6/30/2017 | 508,423 | 127,106
Florida Association of Community Health Centers, Inc. | U58CS06812 | FL | 3/31/2017 | 6/30/2017 | 1,109,444 | 277,361
Georgia Association for Primary Health Care | U58CS06827 | GA | 3/31/2017 | 6/30/2017 | 1,163,056 | 290,764
Hawaii Primary Care Association | U58CS06817 | HI | 3/31/2017 | 6/30/2017 | 892,177 | 223,044
Pacific Islands Primary Care Association | U58CS06819 | HI | 3/31/2017 | 6/30/2017 | 563,594 | 140,899
Iowa Primary Care Association | U58CS06813 | IA | 3/31/2017 | 6/30/2017 | 803,560 | 200,890
Idaho Primary Care Association | U58CS06825 | ID | 3/31/2017 | 6/30/2017 | 837,358 | 209,340
Illinois Primary Care Association | U58CS06822 | IL | 3/31/2017 | 6/30/2017 | 1,294,784 | 323,696
Indiana Primary Health Care Association | U58CS06826 | IN | 3/31/2017 | 6/30/2017 | 789,671 | 197,418
KS Association for the Medically Underserved | U58CS06815 | KS | 3/31/2017 | 6/30/2017 | 738,682 | 184,671
Kentucky Primary Care Association, Inc. | U58CS06811 | KY | 3/31/2017 | 6/30/2017 | 598,562 | 149,641
Louisiana Primary Care Association, Inc. | U58CS06850 | LA | 3/31/2017 | 6/30/2017 | 802,584 | 200,646
MA League of Community Health Centers | U58CS06805 | MA | 3/31/2017 | 6/30/2017 | 1,583,655 | 395,914
Mid-Atlantic Association of Community Health Centers | U58CS06852 | MD | 3/31/2017 | 6/30/2017 | 924,622 | 231,156
Maine Primary Care Association | U58CS06806 | ME | 3/31/2017 | 6/30/2017 | 956,141 | 239,035
Michigan Primary Care Association | U58CS06824 | MI | 3/31/2017 | 6/30/2017 | 1,159,988 | 289,997
Minnesota Association of Community Health Centers | U58CS06823 | MN | 3/31/2017 | 6/30/2017 | 640,461 | 160,115
Missouri Coalition for Primary Health Care | U58CS06814 | MO | 3/31/2017 | 6/30/2017 | 1,076,386 | 269,097
Mississippi Primary Health Care Association | U58CS06839 | MS | 3/31/2017 | 6/30/2017 | 1,172,882 | 293,221
Montana Primary Care Association | U58CS06863 | MT | 3/31/2017 | 6/30/2017 | 1,208,262 | 302,066
NC Community Health Center Association | U58CS06835 | NC | 3/31/2017 | 6/30/2017 | 1,331,574 | 332,894
Health Care Association of Nebraska | U58CS21504 | NE | 3/31/2017 | 6/30/2017 | 689,500 | 172,375
Bi-State Primary Care Association | U58CS06837 | NH | 3/31/2017 | 6/30/2017 | 1,350,174 | 337,544
New Jersey Primary Care Association | U58CS06804 | NJ | 3/31/2017 | 6/30/2017 | 859,705 | 214,926
New Mexico Primary Care Association | U58CS06818 | NM | 3/31/2017 | 6/30/2017 | 996,359 | 249,090
Great Basin Primary Care Association | U58CS06843 | NV | 3/31/2017 | 6/30/2017 | 659,556 | 164,889
Community Health Care Association of NY | U58CS06809 | NY | 3/31/2017 | 6/30/2017 | 1,348,330 | 337,083
Ohio Primary Care Association | U58CS06820 | OH | 3/31/2017 | 6/30/2017 | 1,328,965 | 332,241
Oklahoma Community Health Center, Inc. | U58CS06840 | OK | 3/31/2017 | 6/30/2017 | 1,108,428 | 277,107
Oregon Primary Care Association | U58CS06831 | OR | 3/31/2017 | 6/30/2017 | 1,415,896 | 353,974
Pennsylvania Association Of Community Health Centers | U58CS06853 | PA | 3/31/2017 | 6/30/2017 | 929,965 | 232,491
Associacion De Salud Primaria De Puerto Rico, Inc. | U58CS06879 | PR | 3/31/2017 | 6/30/2017 | 746,152 | 186,538
Rhode Island Health Center Association | U58CS06847 | RI | 3/31/2017 | 6/30/2017 | 531,909 | 132,977
South Carolina Primary Health Care Association | U58CS06828 | SC | 3/31/2017 | 6/30/2017 | 1,326,847 | 331,712
Community Healthcare Association, Inc./Community Healthcare Association of the Dakotas, Inc. | U58CS06844 | SD | 3/31/2017 | 6/30/2017 | 1,167,957 | 291,989
Tennessee Primary Care Association | U58CS06816 | TN | 3/31/2017 | 6/30/2017 | 1,006,019 | 251,505
Texas Association of Community Health Center | U58CS06810 | TX | 3/31/2017 | 6/30/2017 | 1,706,678 | 426,670
Association for Utah Community Health | U58CS06848 | UT | 3/31/2017 | 6/30/2017 | 947,955 | 236,989
Virginia Primary Care Association, Inc. | U58CS06833 | VA | 3/31/2017 | 6/30/2017 | 1,464,290 | 366,073
Washington Association of Community & Migrant Health Centers | U58CS06845 | WA | 3/31/2017 | 6/30/2017 | 846,303 | 211,576
Northwest Regional Primary Care Association | U58CS06846 | WA | 3/31/2017 | 6/30/2017 | 956,869 | 239,217
Wisconsin Primary Health Care Assoc. | U58CS06821 | WI | 3/31/2017 | 6/30/2017 | 871,403 | 217,851
West Virginia Primary Care Association, Inc. | U58CS06834 | WV | 3/31/2017 | 6/30/2017 | 827,930 | 206,983
Wyoming Primary Care Association | U58CS06849 | WY | 3/31/2017 | 6/30/2017 | 631,548 | 157,887

Amount of the Award(s): Up to $13,378,721.

CFDA Number: 93.129.

Period of Supplemental Funding: March 31, 2017, to June 30, 2017.

Authority: Section 330(l) of the Public Health Service Act, as amended.

Justification

The Health Resources and Services Administration will be issuing a noncompetitive award for the State and Regional Primary Care Associations Cooperative Program. Approximately $13,378,721 will be made available in the form of a cooperative agreement to the above list of awardees to extend their April 1, 2016, to March 31, 2017, project and budget period by 3 months to end on June 30, 2017.

The program is authorized by section 330(l) of the Public Health Service (PHS) Act, as amended, to issue grants, cooperative agreements, and contracts to provide necessary technical and non-financial assistance to potential and existing section 330 health centers. Recipients of these cooperative agreements conduct statewide/regional training and technical assistance activities to assist potential and existing health centers in the identified state/region to meet Health Center Program requirements, improve organizational performance, and provide statewide/regional technical assistance.

Through this program, HRSA enters into cooperative agreements with state and regional organizations to provide training and technical assistance. The training and technical assistance activities are based on the identified statewide/regional needs as well as program assistance activities based on HRSA priorities.

FOR FURTHER INFORMATION CONTACT: Matt Kozar, Strategic Initiatives and Planning Division Director, Office of Policy and Program Development, Bureau of Primary Health Care, Health Resources and Services Administration, at mkozar@hrsa.gov or 301-443-1034.

Dated: May 17, 2016.
James Macrae,
Acting Administrator.

[FR Doc. 2016-12302 Filed 5-24-16; 8:45 am]

BILLING CODE 4165-15-P